DEPARTMENT OF TRANSPORTATION

Federal Highway Administration

National Safe Routes to School Task Force to the Secretary of Transportation

AGENCY: Federal Highway Administration (FHWA), DOT.

ACTION: Notice of meetings of advisory committee.

SUMMARY: This document announces two meetings of the National Safe Routes to School Task Force to the Secretary of Transportation. These are the third and fourth meetings of the Task Force. The purpose of the Task Force is to advise the Secretary of Transportation, through the Federal Highway Administration (FHWA) Office of Safety, on strategies to advance Safe Routes to School (SRTS) Programs nationwide and to encourage children, including those with disabilities, to walk and bicycle to school pursuant to section 1404(h) of the Safe, Accountable, Flexible, Efficient Transportation Equity Act: A Legacy for Users (SAFETEA-LU) (Pub. L. 109-59, Aug. 10, 2005). These meetings are open to the public and will have time allocated for public testimony. The public is welcome to present written or oral comments to the Task Force.

DATES: The third meeting of the Task Force is scheduled for 8:30 a.m. to 5 p.m., m.t., on September 25, and for 8:30 a.m. to 12:30 p.m., m.t., on September 26, 2007. The fourth meeting is scheduled for 8:30 a.m. to 5 p.m., e.t., on November 15, and for 8:30 a.m. to 12:30 p.m., e.t., on November 16, 2007.

ADDRESSES: The third meeting will be held at the Warwick Hotel, 1776 Grant Street, Denver, CO 80203. The fourth meeting will be held at The Holiday Inn Capitol, 550 C Street, SW., Washington, DC 20024.

FOR FURTHER INFORMATION CONTACT: Mr. Tim Arnade, the Designated Federal Official, Safe Routes to School Program Manager, FHWA Office of Safety Programs, (202) 366-2205 (Tim.Arnade@dot.gov); Federal Highway Administration, 1200 New Jersey Ave., SE., Washington, DC 20590.

SUPPLEMENTARY INFORMATION:

Background

Section 1404 of SAFETEA-LU required the Secretary of Transportation to establish a Safe Routes to School (SRTS) Program. The purpose of the program is to enable and encourage children, including those with disabilities, to walk and bicycle to school and to make bicycling and walking to school a safer and more appealing transportation alternative. Section 1404(h) requires the establishment of a National SRTS Task Force. These two meetings are the third and fourth meetings of the Task Force. The first two meetings were held in Washington, DC. The first was held on January 11, 2007, and the second was held on April 19, 2007. Complete minutes from these two meetings are posted on the Web site listed below.

The agenda for the third and fourth meetings will include discussion of strategies to advance SRTS programs nationwide and discussion of a draft report to the Secretary of Transportation.

For the third meeting (in Denver), public comments will be taken at approximately 2:45 p.m., m.t., on September 25. For the fourth meeting (in Washington, DC), public comments will be taken at approximately 2:45 p.m., e.t., on November 15. Further information about the Task Force can be found at http://www.saferoutesinfo.org/task_force/. Once a detailed agenda is developed, it will be posted on this Web site. Please note, agenda items are subject to change as priorities dictate.

Conclusion

The third meeting of the National Safe Routes to School Task Force will be held at the Warwick Hotel, 1776 Grant Street, Denver, CO 80203, from 8:30 a.m. to 5 p.m., m.t., on September 25 and from 8:30 a.m. until 12:30 p.m., m.t., on September 26, 2007. The fourth meeting of the National Safe Routes to School Task Force will be held at the Holiday Inn Capitol, 550 C Street, SW., Washington, DC 20024, from 8:30 a.m. to 5 p.m., e.t., on November 15 and from 8:30 a.m. until 12:30 p.m., e.t., on November 16, 2007.

(Authority: Section 1404(h), Pub. L. 109-59; 5 U.S.C., App. II § 1)

Issued on: August 3, 2007.
J. Richard Capka,
Federal Highway Administrator.

[FR Doc. E7-15744 Filed 8-9-07; 8:45 am]

BILLING CODE 4910-22-P